DEPARTMENT OF THE INTERIOR

Bureau of Indian Affairs

[134D0102DRDS5B800000DR.5B811.IA000913DLB000000.000000]

Grant Program To Assess, Evaluate, and Promote Development of Tribal Energy and Mineral Resources

AGENCY: Bureau of Indian Affairs, Interior.

ACTION: Solicitation of Proposals.

SUMMARY: The Secretary of the Interior, through the Office of Indian Energy and Economic Development (IEED), solicits grant proposals from federally recognized Indian tribes and tribal energy resource development organizations for projects that promote processing, use, or development of energy and mineral resources on Indian lands. Grant awards are subject to the availability of funds as appropriated by Congress. Awards must be used by an Indian tribe to develop a tribal energy and mineral resource inventory, a tribal energy and mineral resource on Indian land, or a report necessary to develop energy and mineral resources on Indian lands.

DATES: Submit grant proposals on or before February 18, 2014. We will not consider grant proposals received after this date.

ADDRESSES: Email your proposal to dawn.charging@bia.gov. We will respond to you via email if we receive your proposal and it is readable. If you cannot email your EMPD proposal, then mail or hand-carry it to the Department of the Interior, Division of Energy and Mineral Development, Attention: Energy and Mineral Development Program, c/o Dawn Charging, 13922 Denver West Parkway—Suite 200 (#253), Lakewood, Colorado 80401-3142.

FOR FURTHER INFORMATION CONTACT: If you have questions about the application process, please contact Dawn Charging, telephone 720-407-0652 or email dawn.charging@bia.gov.

If you have technical questions about the energy and mineral resources you wish to assess, evaluate or promote, please contact the appropriate representatives listed below:

• Mineral Projects (Precious Metals, Sand and Gravel): Lynne Carpenter, telephone 720-407-0605, email: lynne.carpenter@bia.gov, or David Holmes, telephone 720-407-0609, email: david.holmes@bia.gov

• Conventional Energy (Oil, Natural Gas, Coal): Bob Just, telephone 720-407-0611, email robert.just@bia.gov

• Renewable Energy (Biomass, Wind, Solar): Jennifer Reimann, telephone 720-407-0669, email Jennifer.Reimann@bia.gov

• Geothermal Energy: Bob Just, telephone 720-407-0611, email bob.just@bia.gov

On-Line Information: There is additional information about EMDP grants on our Web site, http://www.bia.gov/WhoWeAre/AS-IA/IEED/DEMD/TT/TF/index.htm. There you will find sample proposals, sample Tribal resolutions, frequently asked questions, best practices for creating proposals, and general information about technical assistance, which DEMD can provide upon request.

SUPPLEMENTARY INFORMATION:

A. Background

B. Items To Consider Before Preparing an Application for an Energy and Mineral Development Program Grant

C. How To Prepare an Application for Energy and Mineral Development Funding

D. Submission of Application in Digital Format

E. Application Evaluation and Administrative Information

F. When To Submit

G. Where To Submit

H. Transfer of Funding and Transfer of Funds

I. Reporting Requirements for Award Recipients

J. Requests for Technical Information

K. Paperwork Reduction Act Statement

A. Background

The Energy Policy Act of 2005 (25 U.S.C. 3501 et seq.) requires the Secretary to, “establish and implement an Indian energy resource development program to assist consenting Indian tribes and tribal energy resource development organizations.” It also requires the Secretary to, “provide grants to Indian tribes and tribal energy resource development organizations for use in carrying out projects to promote the integration of energy resources, and to process, use, or develop those energy resources, on Indian land….”

IEED, through the Division of Energy and Mineral Development (DEMD) office in Lakewood, Colorado, administers the Energy and Mineral Development Program (EMDP) program. This solicitation seeks proposals for energy and mineral development projects that explore for energy and mineral resources, inventory or assess known resources, or perform feasibility or market studies that tend to promote the use and development of known energy and mineral resources.

Energy and mineral resources may include conventional energy resources (e.g., oil, gas, coal, uranium, and coal bed gas) or renewable energy resources (e.g., wind, solar, biomass, hydro and geothermal). Mineral resources include industrial minerals (e.g., sand, gravel), precious minerals (e.g., gold, silver, platinum), base minerals (e.g., lead, copper, zinc), and ferrous metal minerals (e.g., iron, tungsten, chromium). We want to encourage energy resource development for the nation as a whole, and at the same time help tribes achieve economic benefits from their energy resources. We seek to expand not only tribal knowledge of their energy resources, but the ability yo bring those resources to market in an environmentally acceptable manner.

In past years, we have received more EMDP grant proposals than we could fund that year. Therefore, we have applicants compete for funding, and DEMD then awards funds to a limited number of the best proposals. The DEMD has established ranking procedures with defined criteria for rating proposal merits so that awards are as fair and equitable as possible.

EMDP grants are based on non-recurring appropriations in the Federal budget. These funds are provided on a year-to-year basis, and may or may not be provided in future years.

B. Items To Consider Before Preparing an Application for an Energy and Mineral Development Program Grant

1. Indian Tribe

The term Indian tribe for purposes of EMDP energy grants under the Energy Policy Act of 2005 means any Indian tribe, band, nation, or other organized group or community, including any Alaska Native village or regional or village corporation as defined in or established pursuant to the Alaska Native Claims Settlement Act (85 Stat. 688) [43 U.S.C. 1601 et seq.], which is recognized as eligible for the special programs and services provided by the United States to Indians because of their status as Indians;

The term “Indian tribe” for purposes of EMDP grants for mineral development under the Snyder Act means an Indian tribe under section 102 of the Federally Recognized Indian Tribe List Act of 1994 (25 U.S.C. 479a).

2. Tribal Energy Resource Development Organization

The term tribal energy resource development organization for purposes of EMDP energy grants under the Energy Policy Act of 2005 means an organization of two or more entities, at least one of which is an Indian tribe, that has the written consent of the governing bodies of all Indian tribes participating in the organization to apply for a grant, loan, or other assistance under 25 U.S.C. 3502.

3. Indian Land

The term Indian land for the purposes of EMDP energy grants under the Energy Policy Act of 2005 means—

(a) Any land located within the boundaries of an Indian reservation, pueblo, or rancheria;

(b) any land not located within the boundaries of an Indian reservation, pueblo, or rancheria, the title to which is held—

(i) In trust by the United States for the benefit of an Indian tribe or an individual Indian;

(ii) by an Indian tribe or an individual Indian, subject to restriction against alienation under laws of the United States; or

(iii) by a dependent Indian community; and

(c) land that is owned by an Indian tribe and was conveyed by the United States to a Native Corporation pursuant to the Alaska Native Claims Settlement Act (43 U.S.C. 1601 et seq.), or that was conveyed by the United States to a Native Corporation in exchange for such land.

The term “Indian land” for purposes of EMDP grants for mineral development under the Snyder Act means any tract, or interest therein, in which the mineral estate is owned by one or more Indian tribes in trust or restricted status.

4. Tribes' Compliance History

DEMD will monitor all EMDP grant awards for statutory and regulatory compliance. Tribes that misuse funds may forfeit remaining funds in that and future EMDP years. DEMD may review the use of any prior awards before deciding to fund current year proposals, and may request explanation from tribes with outstanding project funds from previous years.

5. BIA Sanctions List

Tribes who are currently under BIA sanction at Level 2 or higher resulting from non-compliance with the Single Audit Act are ineligible for a EMPD grant award. Tribes at Sanction Level 1 will be considered for funding.

6. Completion of Previous Energy and Mineral Development Projects

DEMD will not usually consider additional funding for a new EMDP project proposal until any previous year's EMPD project from the same applicant is complete and documented. We do understand, however, that delays beyond the control of the applicant sometimes occur. DEMD will consider any explanation provided in conjunction with a new EMDP grant proposal. For instance, if previous year grant funds were seriously delayed through no fault of the applicant, and the prior project is not yet complete for that reason, DEMD would probably not reject a new EMPD grant proposal on that basis.

7. Multiple Projects

DEMD will accept separate applications for multiple projects, even if the project concerns the same energy and mineral resource. For example, a tribe may have a known energy and mineral resource, but need to better define it with further exploration work or analysis. The tribe may also need to conduct a market analysis or feasibility study to understand the economics of bringing that resource to market. In this situation the applicant could submit two separate proposals. The DEMD will apply the same objective ranking criteria to each proposal, although EMDP budget levels may limit what, if anything, either or both proposals might be awarded. Contact DEMD if you have questions concerning multiple projects.

8. Multi-Year Projects

We cannot commit to awarding multi-year funding for a project. EMDP funding is subject to annual appropriations by Congress, so DEMD can only fund single-year projects.

EMDP projects requiring funding beyond a single year should be submitted as a single-year proposal with an explanation that the applicant expects additional time will be needed to complete the project and will therefore submit other applications in following years, to the extent EMDP grants are available. The DEMD will try to fund worthy EMDP projects over multiple years, but there is no assurance EMDP grant funds will be available in future years, or that a multi-year project will be selected again in future years, given DEMD's awarding discretion.

9. Use of Existing Data

DEMD maintains extensive data and information on tribal energy and mineral resources, including digital land grids, geographic information system (GIS) data, and imagery data for many reservations. The DEMD can often help with common requests such as well and production data, geophysical data (including seismic data), geology and engineering data. Ask and you may find that DEMD already has, or can get, much of the data you need at its offices, thereby reducing the anticipated cost of your project.

Correspondingly, DEMD will not allow budget line items for securing data or products already available at DEMD. Check first if DEMD does not have a particular data set, then EMDP funds may be used to acquire such data.

There may also be other places an applicant can secure existing data, thereby avoiding some or all of the cost of securing new data. Before submitting a EMDP proposal that includes acquiring new data, applicants should search thoroughly for preexisting data. Even older data may still have considerable value. Modern data processing and interpretation techniques may allow for updating or improving older data. Applicants should look into this possibility with DEMD staff or with a reputable consultant.

10. Using Technical Services at DEMD

DEMD offers tribes many in-house technical capabilities and services at no charge Tribes can maximize the value of EMDP projects by fully using DEMD's services, or by using DEMD services in conjunction with reputable consultants. Services at DEMD include:

• Searching nearby reference materials for technical literature on previous investigations and work performed in and around reservations, such as the U.S. Geological Survey (USGS) library in Denver, Colorado, or the Colorado School of Mines library in Golden, Colorado;

• Well production history analysis, decline curve and economic analysis of data obtained through DEMD's in-house databases;

• Well log interpretation, including correlation of formation tops, identification of producing horizons, and generation of cross-sections;

• Technical mapping capabilities, using data from well log formation tops and seismic data;

• Contour mapping capabilities, including isopachs, calculated grids, color-fill plotting, and posting of surface features, wells, seismic lines and legal boundaries;

• Seismic data interpretation and data processing;

• Three dimensional modeling of mine plans;

• Economic analysis and modeling for energy and solid mineral projects; and

• Marketing studies.

11. What the Energy and Mineral Development Program Cannot Fund

These funds are specifically for energy and mineral development project work only. Examples of elements that cannot be funded include:

• Establishing or operating a tribal office, and/or purchase of office equipment;

• Salaries or fringe benefits for Tribal employees, except for clearly defined technical project related tasks. Salary requests must comply with the detailed budget component as described under Mandatory Component 3;

• Indirect costs as defined by the Federal Acquisition Regulation (FAR), and overhead;

• Purchasing equipment such as computers, vehicles, field gear, anemometer (Met) towers, and the like, to perform pre-development activities. However, we do allow leasing these types of equipments for pre-development activities;

• Purchasing or leasing equipment to develop energy and mineral resources, such as well drilling rigs, backhoes, bulldozers, cranes, trucks, etc.;

• Drilling wells for the sale of hydrocarbons, geothermal resources, other fluid or solid minerals. Funds may be used for drilling exploration holes for testing, sampling, coring, or temperature surveys;

• Legal fees;

• Application fees associated with permitting;

• Academic research projects;

• Development of unproven technologies;

• Training;

• Contracted negotiation fees;

• Purchase of data available through DEMD;

• Environmental Impact Studies (EIS); and

• Any other activities not authorized by the tribal resolution or by the award letter.

12. Performance of EMDP Projects

At the applicant's discretion, EMDP projects can be performed a number of ways, including by—

• Qualified tribal personnel;

• A Federal government agency (such as DEMD, the U.S. Geological Survey, or the U.S. Department of Energy (DOE));

• A State government agency (such as a State geological survey);

• One or more qualified consultants; or

• A private company or firm.

We place no requirements or restrictions on how an applicant may contract with outside parties to perform EMDP functions, except that the applicant must adhere to its own contracting policies and procedures, such as applicable tribal laws. In addition, applicants should avoid EMDP projects that place inexperienced personnel in key positions or create or continue conflicts of interest, such as having a resource assessment performed by an outside company that is also competing for development rights in the resource being studied.

C. How To Prepare an Application for Energy and Mineral Development Funding

A complete EMDP grant proposal must contain each of the following mandatory components (described in detail below):

1. A current tribal resolution authorizing the proposed project;

2. A proposal describing the planned activities and deliverable products;

3. A detailed budget estimate; and

4. A designated project lead person, authorized to make decisions.

A funding request that does not contain all of these mandatory components will be considered incomplete and returned to the tribe with an explanation. An applicant whose proposal is returned for this reason will be allowed to address the incompletion and resubmit for consideration, provided all issues are addressed before the application deadline listed under DATES, above.

Further description of these mandatory components is as follows:

1. Mandatory Component 1: Tribal Resolution

(a) EMDP Energy Grants:

(i) Tribal application: If a tribe is applying, a tribal resolution must be current, signed, and on tribal letterhead.

(ii) Tribal Energy Resource Development Organization application: the organization must be comprised of two or more entities, at least one of which is an Indian Tribe, that has the written consent of the governing bodies of all Indian Tribes participating in the organization to apply for a grant or other assistance. The tribal resolution must specify the fiscal year for which the EMDP project and grant proposal are intended.

(b) EMDP Mineral Grants:

EMDP grants for mineral development under the Snyder Act means any tract, or interest therein, in which the mineral estate is owned by one or more Indian tribes in trust or restricted status. The tribe applying must submit a current tribal resolution, signed, and on tribal letterhead.

Tribal resolutions should not specify a starting date for the project to avoid complications in the event of funding delays or similar contingencies. Each tribal resolution must include:

• A description of the energy and mineral resource to be studied;

• A statement that the tribe is willing to consider developing any potential energy and mineral resource discovered; and

• A statement describing how the tribe wishes to have the EMDP project performed (i.e., by whom);

We also recommend including in the resolution, a statement to the effect that the tribe will consider public release of information obtained from the EMDP project. By this, we mean summary information suitable for publications, press releases, or presentation at government or private meetings and conferences. We do not mean providing copies of detailed proprietary data or reports to any individual, private company or government agency without the tribe's written permission.

Note: Any information in the possession of DEMD or submitted to DEMD throughout the EMDP process, including final work product, constitute as government records and may be subject to disclosure to third parties under the Freedom of Information Act (FOIA), 5 U.S.C. 552, and the Department of the Interior's FOIA regulations at 43 CFR part 2, unless a FOIA exemption or exception applies or other provisions of law protect the information. Applicants may, but are not required to, designate submitted information in connection with the EMDP as confidential commercially or financially sensitive information, as applicable. That may help DEMD shield such information from FOIA disclosure under the procedures described in 43 CFR part 2.

2. Mandatory Component 2: EMDP Proposal

EMDP grant proposals must be as brief and clear as possible, with a project proposal, statement of work, and description of deliverable products not to exceed 20 letter-sized pages. Visual materials, including charts, graphs, maps, photographs and other pictorial presentations are included in the 20-page limit.

While the EMDP grant proposal itself is limited to 20 pages, an applicant may use appendices for supplemental materials, such as:

• An overview of a tribe's history, location, government structure, population makeup, etc;

• Descriptions of previous work performed relating to the EMPD grant proposal, including work done under any previous EMDP grant award; and/or

• Further detail on technologies or methodologies in the proposal with which DEMD reviewers may be unfamiliar.

Tribes that do not have a staff geoscientist or private consultant available to prepare the technical part of an EMDP grant proposal may contact DEMD for guidance. Since DEMD will be reviewing EMDP grant proposals, there are limits to what DEMD staff can do to help in preparing a proposal. However, DEMD can assist in identifying outside companies or consultants to assist Tribes. If needed, contact DEMD as indicated in the ADDRESSES section of this notice. Make requests as early as possible to give DEMD time to help well before the application deadline.

The EMDP proposal should include the following sections:

(a) Overview and Technical Summary of the Project: Prepare a brief overview of the proposal, no longer than one page. Include:

• Elements of the proposed project;

• Reasons for the project;

• Total funding requested; [and]

• EMDP project lead (authorized to make decisions) and an applicant contact (whether the same or different from the project lead).

(b) Project Objective and Technical Description, Scope of Work: To the extent possible—

• Identify the resource to be examined, such as particular oil or gas deposit, or the regional market for the use of wind power.

• If the energy and mineral resource is known to exist or is being produced nearby, discuss the possible extension or trend of the deposit onto the Indian lands identified in the proposal.

• Describe the location on Indian lands where the energy and mineral resource is located, and where the project is to be performed. Include relevant page size maps and graphs.

• Describe any existing energy and mineral resource information pertinent to the application and provide references. The proposal should not seek to create data or information already in existence.

• Describe whether the project is new or builds on previous work that is partially complete. Explain how the project is phased, how long it is expected to take through completion, and what element the current project is intended to satisfy. Note: EMDP grant funding is appropriated annually. There is no guarantee that funding for a multi-stage project will be available or awarded from one fiscal year to the next.

• Describe whether the project proposal involves work or resources located in an archeological, environmentally or culturally sensitive area. The applicant must cooperate with DEMD when considering and addressing any such concerns.

• Describe the tribe's motivation to develop the proposed energy and mineral resource, including any short and long term benefits to the tribe.

• Describe the project goals and objectives.

• Provide a detailed description of the scope of work and explain the selection of the proposed methodology. For example, if the project involves a geochemical sampling survey, explain how and why the applicant decided upon the quantity samples to be obtained, what type of sampling to target, the soil horizons to be tested, the general location of sampling, how the samples are to be analyzed, and why the applicant chose geochemistry as its exploration technique. Furnish similar explanations and details for geophysics, geologic mapping, core drilling, or any other type of assessment planned.

(c) Deliverable Products: Describe all deliverable products the proposed EMDP project is to generate, including all technical data to be obtained during the study. Describe any maps to be generated and how they will help define energy and mineral resource potential. Discuss the content of any planned status reports as well as the final EMDP project report.

(d) Resumes of Key Personnel: Provide the resumes of key personnel intended to perform EMDP project work and the nature of their involvement, including their relationship to the applicant as tribal staff, consultant, subcontractor, etc.

3. Mandatory Component 3: Detailed Budget Estimate

The EMDP budget must be sufficiently detailed for DEMD staff to gain a reasonable understanding of all elements of the project proposal, plus the relative emphasis placed on each element. Budget details should reflect all reasonably anticipated costs and contingencies, be internally consistent with the rest of the proposal, and allow the review panel to analyze the benefit of all project components. The budget breakdown and organization must indicate that the EMDP project proposal has been closely considered, and would neither waste funds nor fail to support important project elements.

If the EMDP proposal has distinct phases or elements handled by different persons at different times, or discrete categories of expense that can be helpful to break out, budget organization should present sub-budgets or summaries that emphasize those phases, elements or categories. For instance, contract and consulting fees, fieldwork, lab and testing fees, travel and similar categories of expense should be grouped in a budget summary, even if they would not occur sequentially as the project proceeds, so that reviewers can evaluate the overall reasonableness of these expenses against the value of the EMDP proposal as a whole.

In particular, a well-presented budget will clearly show the following:

(a) Contracted Personnel Costs. All contracted personnel and consultants must be identified in the budget, along with their respective positions and the hours allocated for their proposed function(s).

• The function and qualifications of any consultant or contracted personnel must be clearly identified in Mandatory Component 2: EMDP Proposal.

• If hired for a fixed fee, the contracted personnel's or consultant's expenses should be itemized as part of the project budget.

• If not hired for a fixed fee, provide the estimated cost of their activities and the basis of that estimate.

(b) Travel Estimates. Provide estimates for airfare, vehicle rental, lodging, and/or per diem, based on the current Federal government per diem schedule for the applicable region of the country and time of travel.

(c) Data Collection and Analysis Costs. Itemize these costs in sufficient detail for reviewers to evaluate the charges. For example, break down drilling and sampling costs in relation to mobilization costs, footage rates, testing and lab analysis costs per core sample.

(d) Other Expenses. Separately identify computer or equipment rental, report generation, drafting, advertising, and similar costs for the proposed project.

4. Mandatory Component 4: Representative Contact Information

The EMDP grant proposal must identify a representative to oversee the project work, make authorized decisions during the course of the project, and be responsible for submitting quarterly and final progress reports, plus financial status reports, as discussed later in this announcement.

Include the following contact information:

• Name of applicant representative;

• Mailing address;

• Telephone number;

• Fax number (if computer-based document transmission is unavailable, or simply as a back-up method of communication);

• Email address; and

• If different from the project's authorized representative, also provide similar information for a primary contact responsible for communications regarding the EMDP grant proposal.

D. Submission of Application in Digital Format

Submit the entire EMDP grant proposal, including the budget, in digital form. Unless specifically approved in advance by DEMD, applicants should break down the application submission into three separate files: (1) EMDP Proposal (including the project's representative contact information); (2) Tribal Resolution; and (3) Budget.

Proposals not provided in digital form will be considered incomplete. An applicant who is unable to submit its proposal electronically may copy its files to a compact disc (CD or DVD) and mail it.

Acceptable formats are Adobe Acrobat PDF and Microsoft Word and Excel. The budget should be in table format, preferably Microsoft Excel. Files must have descriptive file names to help DEMD quickly locate specific components of the proposal, and use file name extensions that clearly indicate the software application used to prepare the documents (e.g., doc, docx, .pdf). Documents that require an original signature, such as cover letters, tribal resolutions and other letters of tribal authorization can be scanned and submitted electronically.

E. Application Evaluation and Administrative Information

1. Administrative Review

Upon receiving an EMDP grant proposal, DEMD will perform a preliminary review to determine if it contains the four mandatory components, appears to have enough technical and scientific information to permit an evaluation, and does not duplicate or overlap previous or currently funded EMDP projects.

DEMD staff may return a proposal that it deems incomplete, or in appropriate circumstances it may retain the proposal and request additional information.

2. Ranking Criteria

A DEMD panel will review and rank each complete EMDP grant proposal using these six weighted criteria:

(a) Resource Potential, Weight = 10%. If DEMD determines the energy and mineral resource does not exist in meaningful quantities on the Indian lands indicated by the proposal, based on both information provided by the applicant and databases maintained by DEMD, the proposal will be rejected. Thus, in cases of doubt, it is critical to provide all pertinent information needed to help convince the panel that the identified energy resource actually does exist in meaningful quantities. DEMD understands that many tribes and tribal energy resource development organizations have little energy and mineral resource data on their Indian lands, and that in some cases resource data does not exist. Geologic and historical energy and mineral resource data exist throughout most of the continental U.S. on lands surrounding Indian lands, however, and can provide meaningful evidence of their likelihood in the applicant's region.

Many times a producing energy and mineral deposit exists outside but near a reservation's boundary. The geologic setting containing the resource may extend onto the reservation, regardless of the reservation's size. This would suggest the potential of finding similar resources on the reservation. In some cases, available data on non-reservation lands may allow for a scientifically acceptable projection of favorable trends for energy and mineral occurrences on adjacent Indian lands. Similar projections can be made for other kinds of energy resources as well, including renewable energy.

Assuming that the panel is convinced the resource is most likely available, it next must believe that there is enough of it to consider developing. It is on this point that the panel will rate the proposal from a low of 0% to a high of 10%. Consider that the DEMD ranking panel will be asking questions during its review such as: Does the proposal adequately identify or predict the existence of a meaningful level of the resource on or near the reservation, and provide enough supporting technical evidence?

(b) Marketability of the Resource, Weight = 15%. Reviewers will base their scoring on both the short- and long-term market conditions for developing the resource in question. Reviewers are aware that marketability of an energy resource or mineral commodity depends upon existing and emerging market conditions. Industrial minerals such as aggregates, sand/gravel, and gypsum are dependent on local and regional economic conditions.

Precious and base metal minerals such as gold, silver, lead, copper, and zinc are usually more dependent upon international market conditions. Natural gas and coal bed methane production depends upon having relatively close access to a transmission pipeline, for instance, just as does renewable energy depends in large part on access to an electric transmission grid.

Coal and crude oil production, on the other hand, carry built-in transportation costs, making those resources more dependent on current and projected energy commodity rates. At any time, some commodities may have a strong sustained market while others experience a weak market environment, or even a market surge that may be only temporary.

Reviewers understand the dangers of making long-term energy resource market forecasts, so a good EMDP grant proposal should directly and candidly address that sort of uncertainty. Also, short-term forecasts may indicate an oversupply from both national and internationally developed properties, thus impacting production strategy. Commodities such as electricity may be in high demand in some regional sectors, but the current state of transmission infrastructure may not allow for an additional supply of kilowatts, thereby hindering an otherwise promising market opportunity. These factors should be considered in a competitive EMDP grant proposal.

Conversely, some market indicators may suggest improving markets and opening opportunities. Price history, prices from the futures markets, oil and gas rig counts, supply shortages, foreign political unrest, technological innovation and the like, may suggest favorable circumstances that the applicant reasonably believes will work in their favor. Do not leave promising and reasonably predictable factors out of your EMDP grant application.

Consider that DEMD's ranking panel will be asking questions during its review such as: Does the application describe an existing or potential market for its energy and mineral resource? Is the product suitable for that area or region? Does the applicant have a realistic marketing plan?

(c) Economic Benefits Produced by the Project, Weight = 25%. This year we will emphasize funding projects with a positive impact on tribal jobs and income. To receive a high score for this ranking criterion, the proposal should clearly state how the project would benefit, not only the local tribal economy, but tribal employment rates and personal income too. There may be direct employment that developing the energy and mineral resource would foster; by all means mention that. But even if the project would only encourage more employment indirectly, for instance when oil and gas production royalties are used to create other spin-off tribal businesses, the applicant should indicate reasonable projections for that phenomenon in its proposal. Whatever the energy and mineral resource project may be, the ultimate goal is to collect useful data and information that allows the applicant to stimulate both energy and mineral and economic development on their lands.

Consider that DEMD's ranking panel will be asking questions during its review such as: Are the economic goals and objectives of the project fully explained? Does the proposal quantify the economic benefits (e.g., revenue, royalty income, number of jobs, increased income levels, etc.) that would result from project completion?

(d) Applicant's Willingness to Develop and Commitment to the Project, Weight = 20%. The tribal applicant, or the tribes participating in a tribal energy and mineral resource development organization, must be willing to consider developing any potential resource identified in the EMDP grant proposal. Note that this is not a commitment to develop the resource, just an assertion that the applicant is committed to the goals of the EMDP and seriously willing to consider developing the resource. Another way to put this is that the applicant does not submit its EMDP grant proposal knowing, in advance, that it is unlikely for any number or reasons to ever develop its energy and mineral resource. The decision on when and whether to develop its energy and mineral resources will always lie with tribal government. At the same time, however, we want to make wise use of limited EMDP grant funds. The willingness-to-develop statement should sufficiently explain the applicant's attitude towards developing its energy and mineral resource and its commitment level. DEMD will also evaluate an applicant's willingness to develop based upon its willingness to release energy and mineral data to potential developers (assuming the applicant does not have sufficient in-house expertise to undertake development on its own).

Concerning the applicant's commitment to the project, it should explain how it will participate in the study, including the level of involvement and technical expertise of its authorized project representative and contact persons, whether the project will involve direct contact with the applicant's natural resource department and/or tribal council, etc.

If a tribal applicant or tribal energy and mineral resource development organization has a strategic development plan outlining objectives, goals, and methodology for creating sustainable tribal economic development, the applicant should discuss it in the EMDP grant proposal, along with how the proposal fits within that strategic plan. Similarly, if the applicant has some other overall plan of action into which the EMDP grant proposal fits (such as an existing energy and mineral task force/committee, pertinent tribal resolutions, an energy office, etc.), that too should be described.

Consider that DEMD's ranking panel will be asking questions during its review such as: Does the proposal explain how the applicant is committed to the project? Who has the applicant designated as its authorized representative for the project proposal, and what are that person's credentials? Does the applicant have an existing strategic development plan and/or plan of action that includes developing its energy and mineral resources? Is willingness to develop the energy and mineral resource clearly stated in the tribal resolution supporting the EMDP grant application (i.e., does the full council support development)? Does the proposal otherwise clearly demonstrate the tribe's willingness to develop? Is the tribe willing to release non-proprietary data to potential developers or partners? Is the tribe's current business environment conductive to development?

(e) Budget Completeness, Cost Reasonableness, Cost Realism and Detail, Weight = 15%. DEMD will review EMDP grant budget proposals for completeness, organization, and the reasonableness of identified costs, all in the context of achieving the project's stated goals and objectives.

Consider that DEMD's ranking panel will be asking questions during its review such as: Does the budget comply with Mandatory Component 3 (Detail Budget Estimate) from the solicitation guidelines? Is the budget detailed enough to explain how and when funds are to be spent? Are line item budget numbers appropriate and reasonable to complete the proposed tasks?

(f) Appropriateness of the Technical Proposal and Statement of Work, Weight = 15%. The EMDP grant proposal should address all the elements listed in Mandatory Component 2 in the guidelines from this Federal Register solicitation, and be clear to understand.

Consider that DEMD's ranking panel will be asking questions during its review such as: Does the proposal address all of elements listed as Mandatory Component 2 in the guidelines from the Federal Register solicitation? Is the technical proposal clear and well organized? Are specified techniques and methodologies reasonable and in conformance with best practices? Does the technical proposal adequately explain how the techniques and methods to be used in the project would meet the goals and objectives of the proposal?

3. Ranking of Proposals and Award Letters

The review committee will rank EMDP energy and mineral development proposals using the selection criteria outlined in this section. DEMD will then forward the rated requests to the Director of IEED for approval. Those applicants not receiving an award will also be notified promptly in writing.

F. When To Submit

We will accept applications at any time before the deadline stated in the DATES section of this notice, and will send a notification of receipt to the return address on the application package, along with a determination of whether or not the application is complete. EMDP grant proposals submitted electronically will receive a prompt reply indicating if the application was received and readable.

G. Where To Submit

Submit the energy and mineral development proposals to DEMD at the address listed in the ADDRESSES section of this notice. Applicants should also forward a copy of their proposal to their own BIA Agency and Regional offices.

BIA Regional or Agency-level offices receiving an EMDP grant proposal do not have to forward it to DEMD. It is meant to inform them of the applicant's intent to perform energy or mineral studies using EMDP funding. BIA Regional or Agency offices are free to comment on the applicant's proposal, or to ask DEMD for other information.

H. Funding and Transfer of Funds

Our obligation under this solicitation is contingent on receipt of congressionally appropriated funds. No liability on the part of the U.S. Government for any payment may arise until funds are made available to the Contracting Officer for this grant and until the recipient receives notice of such availability, to be confirmed in writing by the Contracting Officer.

All Payment under this agreement will be made by the U.S. Government by electronic funds transfer (through the Treasury Fedline Payment System (FEDLINE)). The recipient must submit an official invoice to the Bureau of Indian Affairs, Division of Fiscal Services, 12220 Sunrise Valley Drive, Reston, VA 20191. After the invoice is reviewed and approved, payment will be processed. Invoices should be based on progress and should not be submitted more than once a month. All payments will be deposited in accordance with the banking information designated for the applicant in the System for Award Management (SAM).

I. Reporting Requirements for Award Recipients

1. Quarterly Reporting Requirements

During the life of the EMDP project, deliverables will include quarterly project/technical progress updates, with a final written report addressing components outlined in the scope of work. Quarterly written progress and financial status reports are to be submitted to the DEMD project monitor named in the award letter for the project. The quarterly reports are on a calendar basis with the first reporting quarter being that in which the project funds are transferred to the applicant. This date will be established by DEMD's project monitor once there has been an award.

The quarterly status report can be a one- to two-page summary of events, accomplishments, problems and results that took place during the quarter. The status report should also include a listing of the funds expended during the quarter, how the funds were spent, and the amount remaining. Quarterly reports are due two weeks after the end of a project's quarter.

Applicants should also forward a copy of their reports to their own BIA Agency and Regional offices.

2. Final Reporting Requirements

• Delivery Schedules. The applicant must deliver all products and data generated under the EMDP project to DEMD within two weeks after project completion.

• Digital Format Requirement for Reports and Data. DEMD maintains a repository of all energy and mineral data on Indian lands, much of it derived from these EMDP reports. As these projects produce large amounts of raw and processed data, analyses and assays (in addition to the summary report itself); DEMD requires that all deliverable products to be in digital format, along with printed hard copies.

Reports and data can be provided in either Microsoft Word or Adobe Acrobat PDF format. Spreadsheet data can be provided in Microsoft Excel, Microsoft Access, or Adobe PDF formats. All vector figures should be converted to PDF format. Raster images can be provided in PDF, JPEG, TIFF, or any of the Windows metafile formats.

• Number of Copies. The applicant's EMDP proposal should account for our requirement that all final products be delivered in the format described above, including six digital and six printed copies, distributed as follows:

(a) The applicant retains two printed and two digital copies of the EMDP report.

(b) DEMD requires four printed copies and four digital copies of the EMDP report. DEMD will transmit one of these copies to the tribe's BIA Regional Office, and one copy to the tribe's BIA Agency Office. Two printed and two digital copies will then reside with DEMD. All DEMD's copies should be forwarded to its office in Lakewood, Colorado, to the attention of the “Energy and Mineral Development Program.”

All products generated by EMDP studies belong to the applicant and cannot be released to the public without the applicant's written approval. Products include all reports and technical data obtained during the study such as geophysical data, geochemical analyses, core data, lithologic logs, assay data of samples tested, results of special tests, maps and cross sections, status reports, and the final report.

J. Requests for Technical Assistance

DEMD staff can provide applicants with a good deal of technical help, such as working directly with tribal staff on a proposed project, providing support documentation and data, and suggesting ways a tribe may obtain other assistance, such as from a company or consultant with special expertise. The applicant or its consultant must design, organize, and write the EMDP grant proposal, however, including its proposed budget. DEMD staff cannot objectively help an applicant prepare an application when DEMD has primary responsibility for evaluating it.

If an applicant needs DEMD's assistance with some aspect of the EMDP grant application process, and DEMD's help would not create a conflict of interest, please ask in writing. Submit requests to DEMD's Division Chief well in advance of the proposal deadline established in the DATES section of this solicitation to allow DEMD staff time to provide the appropriate assistance. Applicants not seeking technical assistance should also submit their EMDP proposals as far as possible in advance of the application deadline, to allow DEMD staff time to provide feedback concerning any possible deficiencies, and allow for timely application revisions if necessary.

K. Paperwork Reduction Act Statement

The information collection requirements contained in this notice have been approved by the Office of Management and Budget (OMB) under 44 U.S.C. 3504(h). The OMB control number is 1076-0174. The authorization expires on June 30, 2016. An agency may not sponsor, and you are not required to respond to, any information collection that does not display a currently valid OMB Control Number.

The information collected is used to identify eligible recipients of EMDP grants and to obtain progress reports from selected EMDP grant recipients. The information is supplied by the respondents to obtain a benefit. The public reporting burden is estimated to be 40 hours per application and 1.5 hours per progress report per respondent. This includes the time needed to understand the requirements, gather the information, complete the application and progress report, and submit to the Department. Comments regarding the burden or other aspects of the information collection may be directed to the Information Collection Clearance Officer—Indian Affairs, 1849 C Street NW., MS-4141, Washington, DC 20240.

Dated: December 6, 2013.
Kevin K. Washburn,
Assistant Secretary—Indian Affairs.

[FR Doc. 2013-30282 Filed 12-19-13; 8:45 am]

BILLING CODE 4310-4M-P